DEPARTMENT OF AGRICULTURE

Forest Service

Flathead County Resource Advisory Committee

AGENCY: Forest Service, USDA

ACTION: Notice of meeting.

SUMMARY: The Flathead County Resource Advisory Committee will meet in Kalispell, Montana May 4th and May 19th. The purpose of these meetings is to discuss future RAC projects.

DATES: The meetings will be held from 4 p.m. to 6 p.m.

ADDRESSES: The meetings will be held at the Flathead County Commissioner's Office, Commissioner's Conference Room, 800 South Main, Kalispell, Montana, 59901.

FOR FURTHER INFORMATION CONTACT: Kaaren Arnoux, Flathead National Forest, Administrative Assistant, (406) 785-5251.

SUPPLEMENTARY INFORMATION: The meeting is open to the public. Time will be available for public input on potential projects the committee may be discussing.

Denise Germann,
Public Affairs Specialist.
Cathy Barbouletos,
Forest Supervisor.

[FR Doc. 04-10047 Filed 5-3-04; 8:45 am]

BILLING CODE 3410-11-M